NUCLEAR REGULATORY COMMISSION

Advisory Committee on Reactor Safeguards (ACRS); Meeting of the Subcommittee on ESBWR Design Certification; Notice of Meeting

The ACRS Subcommittee on ESBWR Design Certification will hold a meeting on January 16-17, 2008, Room T-2B3, 11545 Rockville Pike, Rockville, Maryland.

The entire meeting will be open to public attendance, with the exception of a portion that may be closed to discuss unclassified safeguards and proprietary information pursuant to 5 U.S.C. 552b (c)(3) and (4).

The agenda for the subject meeting shall be as follows:

Wednesday, January 16, 2008—8:30 a.m. until 5 p.m.

Thursday, January 17, 2008—8:30 a.m. until 5 p.m.

The Subcommittee will review and discuss the Safety Evaluation with Open Items for several chapters of the ESBWR Design Certification and make a recommendation to the full Committee. The Subcommittee will hear presentations by and hold discussions with representatives of the NRC staff, GE-Hitachi Nuclear Energy Americas LLC, and other interested persons regarding this matter. The Subcommittee will gather information, analyze relevant issues and facts, and formulate proposed positions and actions, as appropriate, for deliberation by the full Committee.

Members of the public desiring to provide oral statements and/or written comments should notify the Designated Federal Official, Mr. Charles G. Hammer (telephone 301/415-7363) five days prior to the meeting, if possible, so that appropriate arrangements can be made. Electronic recordings will be permitted only during those portions of the meeting that are open to the public. Detailed procedures for the conduct of and participation in ACRS meetings were published in the Federal Register on September 26, 2007 (72 FR 54695).

Further information regarding this meeting can be obtained by contacting the Designated Federal Official between 6:45 a.m. and 3:30 p.m. (ET). Persons planning to attend this meeting are urged to contact the above named individual at least two working days prior to the meeting to be advised of any potential changes to the agenda.

Dated: December 10, 2007.
Cayetano Santos,
Branch Chief, ACRS.

[FR Doc. E7-24349 Filed 12-14-07; 8:45 am]

BILLING CODE 7590-01-P